DEPARTMENT OF TRANSPORTATION

Federal Aviation Administration

14 CFR Part 39

[Docket No. 2003-NM-74-AD]

RIN 2120-AA64

Airworthiness Directives; McDonnell Douglas Model MD-11 and -11F Airplanes

AGENCY: Federal Aviation Administration, DOT.

ACTION: Notice of proposed rulemaking (NPRM).

SUMMARY: This document proposes the supersedure of an existing airworthiness directive (AD), applicable to certain McDonnell Douglas Model MD-11 and -11F airplanes, that currently requires, among other actions, replacing the ground support bracket(s); and rerouting the ground cables of the galley external power and main external power, as applicable. This action would require replacing ground support brackets with new brackets, and replacing ground cables of the galley external power and main external power with new cables; as applicable. This action also would require an inspection to detect the presence of a fillet seal at the ground brackets and to detect excessive length and correct terminations of the ground cables of the galley and main external power, as applicable; and corrective actions if necessary. The actions specified by the proposed AD are intended to prevent arcing and heat damage to the attachment points of the main external and galley power receptacle ground wire, insulation blankets outboard and aft of the receptacle area, and adjacent power cables, which could result in smoke and fire in the forward cargo compartment. This action is intended to address the identified unsafe condition.

DATES: Comments must be received by February 23, 2004.

ADDRESSES: Submit comments in triplicate to the Federal Aviation Administration (FAA), Transport Airplane Directorate, ANM-114, Attention: Rules Docket No. 2003-NM-74-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-74-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-74-AD.” The postcard will be date stamped and returned to the commenter.

Availability of NPRMs

Any person may obtain a copy of this NPRM by submitting a request to the FAA, Transport Airplane Directorate, ANM-114, Attention: Rules Docket No. 2003-NM-74-AD, 1601 Lind Avenue, SW., Renton, Washington 98055-4056.

Discussion

On July 2, 2002, the FAA issued AD 2002-14-11, amendment 39-12811 (67 FR 47651, July 19, 2002), applicable to certain McDonnell Douglas Model MD-11 and -11F airplanes, to require replacing the ground support bracket(s); and rerouting the ground cables of the galley external power and main external power, as applicable. That AD also requires an inspection of the ground cables of the main external power and galley external power for excessive length, as applicable; and corrective actions, if necessary. That action was prompted by FAA's determination that currently required actions may not adequately address the identified unsafe condition. The requirements of that AD are intended to prevent arcing and heat damage to the attachment points of the main external and galley power receptacle ground wire, insulation blankets outboard and aft of the receptacle area, and adjacent power cables, which could result in smoke and fire in the forward cargo compartment.

Actions Since Issuance of Previous Rule

Since the issuance of that AD, Boeing has informed the FAA that Revision 01 of McDonnell Douglas Alert Service Bulletin MD11-24A138, dated June 5, 2001 (referenced as the appropriate source of service information for accomplishing the required actions), references an incorrect termination code and does not specify procedures for a general visual inspection of the ground bracket to detect a fillet seal. Therefore, we have determined that more work is necessary on airplanes that accomplished the requirements of AD 2002-14-11 in order to adequately address the identified unsafe condition.

Other Related Rulemaking

The FAA, in conjunction with Boeing and operators of Model MD-11 and -11F airplanes, has reviewed all aspects of the service history of those airplanes to identify potential unsafe conditions and to take appropriate corrective actions. This proposed AD is one of a series of corrective actions identified during that process. We have previously issued several other ADs and may consider further rulemaking actions to address the remaining identified unsafe conditions.

Explanation of Relevant Service Information

We have reviewed and approved Revision 2 of Boeing Alert Service Bulletin MD11-24A138, dated July 11, 2003, which describes the following procedures depending on the airplane configuration:

• Replacing ground support brackets with new brackets, and replacing ground cables of the galley external power and main external power with new cables; and

• Doing a general visual inspection to detect the presence of a fillet seal at the ground brackets and to detect excessive length and correct terminations of the ground cables of the galley and main external power, and applicable corrective actions if necessary. The corrective actions include replacing brackets with new brackets, and replacing ground cables with new cables; as applicable.

Accomplishment of the actions specified in the service bulletin is intended to adequately address the identified unsafe condition.

Explanation of Requirements of Proposed Rule

Since an unsafe condition has been identified that is likely to exist or develop on other products of this same type design, the proposed AD would supersede AD 2002-14-11 to require accomplishment of the actions specified in Revision 02 of the service bulletin described previously.

Cost Impact

There are approximately 154 airplanes of the affected design in the worldwide fleet. The FAA estimates that 69 airplanes of U.S. registry would be affected by this proposed AD.

The new actions that are proposed in this AD action would take approximately 1 work hour per airplane to accomplish, at an average labor rate of $65 per work hour. Required parts would cost approximately between $175 and $2,002 per airplane depending on airplane configuration. Based on these figures, the cost impact of the proposed requirements of this AD on U.S. operators is estimated to between $240, or $2,067 per airplane depending on airplane configuration.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. Manufacturer warranty remedies may also be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12811 (67 FR 47651, July 19, 2002), and by adding a new airworthiness directive (AD), to read as follows:

McDonnell Douglas: Docket 2003-NM-74-AD. Supersedes AD 2002-14-11, Amendment 39-12811.

Applicability: Model MD-11 and -11F airplanes, as listed in Boeing Alert Service Bulletin MD11-24A138, Revision 2, dated July 11, 2003; certificated in any category.

Compliance: Required as indicated, unless accomplished previously.

To prevent arcing and heat damage to the attachment points of the main external and galley power receptacle ground wire, insulation blankets outboard and aft of the receptacle area, and adjacent power cables, which could result in smoke and fire in the forward cargo compartment, accomplish the following:

Replacement, Inspection, and Corrective Actions if Necessary

(a) Within 12 months after the effective date of this AD, accomplish the actions specified in paragraph (a)(1) through (a)(4) of Table 1 of this AD, as applicable, in accordance with the Accomplishment Instructions of Boeing Alert Service Bulletin MD11-24A138, Revision 2, dated July 11, 2003. Any applicable corrective action must be accomplished before further flight.

Table 1.—Required Actions
For Group 1 airplanes listed in Revision 2 the service bulletin on which previous issues of the service bulletin— | Actions—
(1) Have not been done | Replace the ground support brackets with new brackets, and replace the ground cables of the galley external power and main external power with new cables.
(2) Have been done | Do a general visual inspection to detect the presence of a fillet seal at the ground brackets and to detect excessive length and correct terminations of the ground cables of the galley and main external power. If any discrepancy is detected, do applicable corrective actions per Figure 3 of the service bulletin.

For Group 2 airplanes listed in Revision 2 of the service bulletin on which previous issues of the service bulletin— | Actions—
(3) Have not been done | Replace the ground support bracket with a new bracket, and replace the ground cables of the main external power with new cables.
(4) Have been done | Do a general visual inspection to detect the presence of a fillet seal at the ground brackets and to detect excessive length and correct terminations of the ground cables of the main external power. If any discrepancy is detected, do applicable corrective actions per Figure 4 of the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Alternative Methods of Compliance

(b) In accordance with 14 CFR 39.19, the Manager, Los Angeles Aircraft Certification Office (ACO), FAA, is authorized to approve alternative methods of compliance (AMOCs) for this AD.

Issued in Renton, Washington, on January 2, 2004.
Kevin M. Mullin,
Acting Manager, Transport Airplane Directorate, Aircraft Certification Service.

[FR Doc. 04-477 Filed 1-8-04; 8:45 am]

BILLING CODE 4910-13-P